DEPARTMENT OF LABOR

Employment and Training Administration

[TA-W-38, 545]

Sappi Fine Paper Company, North America, Muskegon, Michigan; Notice of Negative Determination Regarding Application for Reconsideration

By application dated April 30, 2001, the company requested reconsideration of the Department's negative determination regarding eligibility to apply for Trade Adjustment Assistance (TAA), applicable to workers and former workers of the subject firm. The denial notice was signed on February 27, 2001, and published in the Federal Register on April 5, 2001 (66 FR 18117).

Pursuant to 28 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The investigation findings for the February 27 denial of TAA for workers of Sappi Fine Paper Company, producing coated paper used in commercial printing in Muskegon, Michigan showed that criterion (3) of the group eligibility requirements of Section 222 of the Trade Act of 1974, as amended, was not met. The investigation revealed that sales at Sappi Fine Paper Company increased from 1999 through 2000. There were no company imports of articles like or directly competitive with coated publication paper.

The petitioner asserts that increased foreign competition was a major factor in company layoffs because it has eroded the competitive position of the subject firm. However, declines in employment at the Sappi Paper Company are attributed to the company's decision to reorganize.

Conclusion

After review of the application and investigative findings, I conclude that there has been no error or misinterpretation of the law of the facts which would justify reconsideration of the Department of Labor's prior decision. Accordingly, the application is denied.

Signed at Washington, DC, this 13th day of August 2001.
Edward A. Tomchick,
Director, Division of Trade Adjustment Assistance.

[FR Doc. 01-21851 Filed 8-28-01; 8:45 am]

BILLING CODE 4510-30-M